FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Transaction No. | Acquiring person | Acquired person | Acquired entities
Transactions Granted Early Termination—05/28/2002
20020702 | Performance Food Group Company | Don and Carolyn Kirkpatrick | Quality Foods, Inc.
20020713 | Kroll Inc | ONTRACK Data International, Inc | ONTRACK Data International, Inc
20020738 | UnitedHealth Group Incorporated | GeoAccess, Inc | GeoAccess, Inc
20020743 | John Hancock Financial Services, Inc | International Paper Company | Sustainable Forest, L.L.C.
20020754 | Providence Equity Partners IV, L.P. | AT&T Corp | AT&T Broadband of Colorado, LLC. AT&T Broadband, LLC. United Cable Television of Western Colorado, Inc
20020757 | Goodman Company, Ltd | Avantec Vascular Corporation | Avantec Vascular Corporation.
20020763 | ASSA ABLOY AB | AB INDUSTRIVARDEN | BESAM AB.
20020764 | Bethlehem Steel Corporation | LTV Corporation (Debtor-in-Possession) | Columbus Processing Company. Columbus Coatings Company.
20020765 | Royal Bank of Canada | Assicurazioni Generali S.p.A | Business Men's Assurance Company of America. Jones & Babson Inc Transocean Holding Corporation.
20020766 | Headwaters Incorporated | Larry E. Koenig | H Briquetters, Ltd. I Briquetters, Ltd. P Briquetters, Ltd.
20020767 | Headwaters Incorporated | Startec, Inc | H Briquetters, Ltd. I Briquetters, Ltd. P Briquetters, Ltd.
20020770 | Grande Communications Holdings, Inc | ClearSource, Inc | ClearSource, Inc,
20020772 | Bank of Montreal | Morgan Stanley Dean Witter & Co | Morgan Stanley DW Inc.
20020774 | Kellwood Company | Gerber Childrenswear, Inc | Gerber Childrenswear, Inc.
20020779 | Nordstrom.com, Inc | Nordstrom, Inc | Nordstrom.com, Inc.
20020785 | John A. Catsimatidis | Marks & Spencer p.l.c | Kings Super Markets, Inc.
20020787 | United Rentals, Inc | National Equipment Services, Inc | National Equipment Services, Inc.
20020791 | Cardinal Health, Inc | Boron, Lepore and Associates, Inc | Boron, Lepore and Associates, Inc.
Transactions Granted Early Termination—05/30/2002
20020760 | Berkshire Hathaway Inc | Lumbermens Mutual Casualty Company | Kemper Insurance Group, Inc
20020773 | Liberty Media Corporation | Naspers, Ltd | OpenTV Corp.
Transactions Granted Early Termination—06/03/2002
20020784 | Cumulus Media Inc | Wicks Communications & Media Partners, L.P | Wilks Broadcasting LLC.
20020792 | Welsh, Carson, Anderson & Stowe IX, L.P | SpectraSite Holdings, Inc | SpectraSite Holdings, Inc.
20020793 | Welsh, Carons, Anderson & Stowe VIII, L.P | SpectraSite Holdings, Inc | SpectraSite Holdings, Inc.
20020799 | Olin Corporation | Chase Industries Inc | Chase Industries Inc.
20020801 | Hicks, Muse, Tate & Furst Equity Fund V, L.P | ConAgra Foods, Inc | Australia Meat Holdings Pty, Ltd. ConAgra Beef Company. ConAgra Refrigerated Foods, S.A. de C.V. kabushiki Kaisha ConAgra Japan. Monfort Finance Company, Inc. S&C Holdco, Inc. Swift & Company.
20020807 | Landry's Restaurants, Inc | Chart House Enterprises, Inc | Chart House, Inc.
20020810 | Windward Capital Partners II, L.P | Apostolos G. Allamanis | Castle Park. Jazzland. Mountain Creek/Water World. N-Ovation Park Management, LLC. Raging Waters—San Dimas. Raging Waters—San Jose. Silver Springs/Wild Waters. Wet'N Wild Las Vegas
20020813 | Mr. Alian Merieux | Nouvelle bioMerieux Alliance S.A | Nouvelle bioMerieux Alliance S.A.
20020814 | Mr. Pierre Fabre | bioMerieux Pierre Fabre S.A | bioMerieux Pierre Fabre S.A.
Transactions Granted Early Termination—06/04/2002
20020788 | Affiliated Computer Services, Inc | FleetBoston Financial Corporation | AFSA Data Corporation.
20020805 | STMicroelectronics N.V | Alcatel | Alcatel Microelectronics.
20020815 | Vallourec | Cargill, Incorporated | North Star Steel Company. Universal Tubular Services, Inc.

FOR FURTHER INFORMATION CONTACT: Sandra M. Peay, or Chandra L. Kennedy, Contact Representatives.

Federal Trade Commission, Premerger Notification Office, Bureau of Competition, Room 303, Washington, DC 20580. (202) 326-3100

By Direction of the Commission.
Donald S. Clark,
Secretary.

[FR Doc. 02-15841 Filed 6-21-02; 8:45 am]

BILLING CODE 6750-01-M